OFFICE OF SCIENCE AND TECHNOLOGY POLICY

Notice of Public Meetings: National Nanotechnology Initiative Public Meetings

ACTION: Notice of Public Meetings.

SUMMARY: The National Nanotechnology Coordination Office (NNCO), on behalf of the Nanoscale Science, Engineering, and Technology (NSET) Subcommittee of the Committee on Technology, National Science and Technology Council (NSTC), will hold several events over the coming year in support of the U.S. National Nanotechnology Initiative (NNI), including two workshops and one or more webinars.

DATES: The “2016 NNI Strategic Planning Stakeholder Workshop” will be held on Thursday, May 19, 2016, from 8 a.m. until 5 p.m. and on Friday, May 20, 2016, from 8 a.m. until 5 p.m. The “2016 U.S.-EU: Bridging NanoEHS Research Efforts” workshop will be held on Monday, June 6, 2016, from 9 a.m. until 6 p.m. and on Tuesday, June 7, 2016, from 9 a.m. until 3 p.m. The NNCO will hold one or more webinars between the publication of this Notice and December 31, 2016. The first webinar will be held on or after April 20, 2016.

ADDRESSES: The “2016 NNI Strategic Planning Stakeholder Workshop” will be held at USDA Conference & Training Center, Patriots Plaza III, 355 E Street SW., Washington, DC 20024. More information about how to participate will be made available at http://www.nano.gov/2016StakeholderWorkshop.

FOR FURTHER INFORMATION CONTACT: For information regarding this Notice, please contact Stacey Standridge at National Nanotechnology Coordination Office, by telephone (703-292-8103) or email (sstandridge@nnco.nano.gov).

SUPPLEMENTARY INFORMATION: The “2016 U.S.-EU: Bridging NanoEHS Research Efforts” joint workshop will be held at the National Science Foundation, 4201 Wilson Boulevard, Arlington, Virginia 22230. The meeting date and location, as well as any call-in information will be posted on the Community of Research page at http://us-eu.org/. NNCO will hold a “2016 NNI Strategic Planning Stakeholder Workshop” on May 19-20, 2016, in Washington, DC, to obtain input from individual stakeholders that may be used to inform the development of the U.S. National Nanotechnology Initiative (NNI) Strategic Plan. Representatives of the U.S. research community, industry, non-governmental organizations, and interested members of the general public are invited to comment on key aspects related to the 2016 NNI Strategic Plan, currently under development by the NNI agencies. Topics covered may include future technical directions; implementation mechanisms; education and outreach activities; and approaches for promoting commercialization.

NNCO will hold the “2016 U.S.-EU: Bridging NanoEHS Research Efforts” workshop on June 6-7, 2016, in Arlington, Virginia, in collaboration with the European Commission. The workshop will bring together the U.S.-EU Communities of Research (CORs), which serve as a platform for scientists to develop a shared repertoire of protocols and methods to overcome research gaps and barriers, and to address environmental, health, and safety questions about nanomaterials. The goal of this workshop is to publicize progress towards COR goals and objectives, clarify and communicate future plans, share best practices, and identify areas for cross-Community collaboration.

NNCO will hold one or more webinars to share information with the general public and the nanotechnology research and development community. Topics covered may include stakeholder input for strategic planning; technical subjects; environmental, health, and safety issues; business case studies; or other areas of potential interest to the nanotechnology community.

For information about upcoming webinars, please visit http://www.nano.gov/PublicWebinars. Many webinars are broadcast via AdobeConnect, which requires the installation of a free plug-in on a computer or of a free app on a mobile device.

Submitting Questions: Some webinars may include question-and-answer segments in which questions of interest may be submitted through the webinar interface. During the question-and-answer segments of the webinars, submitted questions will be considered in the order received and may be posted on the NNI Web site (http://www.nano.gov). A moderator will identify relevant questions and pose them to the speaker(s). Due to time constraints, not all questions may be addressed during the webinars. The moderator reserves the right to group similar questions and to skip questions, as appropriate. The Public Webinar page on nano.gov (http://www.nano.gov/PublicWebinars) will indicate which webinars will include question-and-answer segments.

Registration: Due to space limitations, pre-registration is required for all events covered under this Notice. Registration is on a first-come, first-served basis and will be capped at approximately 120 participants for the workshops. Registration for the “2016 NNI Strategic Planning Stakeholder Workshop” will open at http://www.nano.gov/2016StakeholderWorkshop on April 4, 2016, and registration for the “2016 U.S.-EU: Bridging NanoEHS Research Efforts” workshop will open at http://us-eu.org/2016-us-eu-nanoehs-workshop/ on April 6, 2016. Registration for the webinars will open approximately two weeks prior to each event and will be capped at 500 participants or as space limitations dictate. Individuals planning to attend a webinar can find registration information at http://www.nano.gov/PublicWebinars. Written notices of participation by email may also be sent to sstandridge@nnco.nano.gov or mailed to Stacey Standridge, 4201 Wilson Blvd., Stafford II, Suite 405, Arlington, VA 22230.

Meeting Accomodations: Individuals requiring special accommodation to access any of these public events should contact Stacey Standridge (telephone 703-292-8103) at least ten business days prior to the meeting so that appropriate arrangements can be made.

Ted Wackler,
Deputy Chief of Staff and Assistant Director.

[FR Doc. 2016-05608 Filed 3-11-16; 8:45 am]

BILLING CODE 3270-F6-P